DEPARTMENT OF COMMERCE

National Telecommunications and Information Administration

Meeting To Discuss Lessons Learned From Commerce Spectrum Management Advisory Committee Working Group Process

AGENCY: National Telecommunications and Information Administration, U.S. Department of Commerce.

ACTION: Notice of open meeting.

SUMMARY: The National Telecommunications and Information Administration (NTIA) will convene a meeting on December 13, 2013 to discuss “lessons learned” from NTIA's Commerce Spectrum Management Advisory Committee (CSMAC or Committee) Working Group process.

DATES: The meeting will be held on December 13, 2013, from 9:00 a.m. to 11:00 a.m. Eastern Standard Time.

ADDRESSES: The meeting will be held at the U.S. Department of Commerce, 1401 Constitution Avenue NW., Room 4830, Washington, DC 20230. Public input may be mailed to Commerce Spectrum Management Advisory Committee, National Telecommunications and Information Administration, 1401 Constitution Avenue NW., Room 4099, Washington, DC 20230 or emailed to BWashington@ntia.doc.gov.

FOR FURTHER INFORMATION CONTACT: Bruce M. Washington at (202) 482-6415 or BWashington@ntia.doc.gov; and/or visit NTIA's Web site at http://www.ntia.doc.gov/category/csmac. Please direct media inquiries to NTIA's Office of Public Affairs at (202) 482-7002.

SUPPLEMENTARY INFORMATION:

Background: In May 2012, the CSMAC created five (5) working groups to consider ways to facilitate the transition of the 1695-1710 MHz and 1755-1850 MHz bands.¹ The working groups were open to CSMAC members, federal agency representatives, and non-federal stakeholders even if they were not affiliated with the members on the full Committee. Each working group was co-chaired by an industry and an agency participant and each group included one or more CSMAC member liaisons. Staff from NTIA and the Federal Communications Commission also participated as observers.

¹ See CSMAC, Framework for Work within CSMAC (May 30, 2012), available at http://www.ntia.doc.gov/files/ntia/meetings/framework_for_work_within_csmac_20120525.pdf.

The four working groups addressed the various federal operations within the two spectrum bands as follows:

• Working Group 1—1695-1710 MHz Meteorological-Satellite

• Working Group 2—Law Enforcement Video, Explosive Ordnance Disposal, and other short distance links;

• Working Group 3—Satellite Control and Electronic Warfare;

• Working Group 4—Tactical Radio Relay, Fixed Microwave, and ground-based software defined radios; and

• Working Group 5—Airborne Operations (Air Combat Training Systems, Unmanned Aerial Vehicles, Precision Guided Munitions, airborne software defined radios, and Aeronautical Telemetry)

From May 2012 to August 2013, the working groups organized themselves and developed work plans, convened face-to-face and teleconference meetings, drafted and edited reports, provided updates to the full CSMAC through the member liaisons, and delivered final reports and recommendations for consideration by the Committee. In a recent executive memorandum, President Obama stated that these discussions between agencies and nonfederal entities have “produced an unprecedented level of information-sharing and collaboration to identify opportunities for agencies to relinquish or share spectrum.” ²

² Memorandum for Heads of Executive Departments and Agencies, Expanding America's Leadership in Wireless Innovation (June 14, 2013), 78 Fed. Reg. 37431, 37433 at § 2(a) (June 20, 2013), available at http://www.whitehouse.gov/the-press-office/2013/06/14/presidential-memorandum-expanding-americas-leadership-wireless-innovatio.

Matters To Be Considered: At this meeting, NTIA will facilitate a forum for the CSMAC Working Group participants to discuss lessons learned from the collaborative efforts within the five (5) working groups. NTIA will post an agenda for the meeting on its Web site, http://www.ntia.doc.gov/category/csmac, prior to the meeting. To the extent that the meeting time and agenda permit, any member of the public may speak to or otherwise address the forum regarding the agenda items. Although some CSMAC members will be participating, this meeting is not a meeting of the Committee under the Federal Advisory Committee Act. The CSMAC's next meeting will be held later the same day.

Time and Date: The meeting will be held on December 13, 2013 from 9:00 a.m. to 11:00 a.m., Eastern Standard Time. The times and the agenda topics are subject to change. The meeting will be available via two-way audio link. Please refer to NTIA's Web site, http://www.ntia.doc.gov/category/csmac, for the most up-to-date meeting agenda and access information.

Place: The meeting will be held at the U.S. Department of Commerce, Herbert C. Hoover Building, 1401 Constitution Avenue NW., Room 4830, Washington, DC 20230. The meeting will be open to the public and press on a first-come, first-served basis. Space is limited. The public meeting is physically accessible to people with disabilities. Individuals requiring accommodations, such as sign language interpretation or other ancillary aids, are asked to notify Mr. Washington, at (202) 482-6415 or BWashington@ntia.doc.gov, at least five (5) business days before the meeting.

Status: Interested parties are invited to attend and to submit written comments to Mr. Washington before or after the meeting, subject to the following deadlines. Parties wishing to submit written comments for consideration by NTIA and the other participants in advance of a meeting must send them to NTIA's Washington, DC office at the above-listed address at least five (5) business days before the scheduled meeting date and will be posted on the NTIA Web site. The public comment period will end on December 16, 2013. It would be helpful if paper submissions also include a compact disc (CD) in Word or PDF format. CDs should be labeled with the name and organizational affiliation of the filer. Alternatively, comments may be submitted electronically to BWashington@ntia.doc.gov. Comments provided via electronic mail also may be submitted in the file formats specified above.

Records: NTIA will maintain a record of all meeting proceedings. A written transcript will be available for public inspection at NTIA's Washington, DC office at the address above or on NTIA's Web site at http://www.ntia.doc.gov/category/csmac.

Dated: October 23, 2013.
Kathy D. Smith,
Chief Counsel, National Telecommunications and Information Administration.

[FR Doc. 2013-25388 Filed 10-25-13; 8:45 am]

BILLING CODE 3510-60-P